DEPARTMENT OF ENERGY

Federal Energy Regulatory Commission

[Project No. 2513-091]

Green Mountain Power Corporation; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2513-091.

c. Date Filed: February 28, 2023.

d. Applicant: Green Mountain Power Corporation (GMP).

e. Name of Project: Essex No. 19 Hydroelectric Project.

f. Location: On the Winooski River, in Chittenden County, Vermont.

g. Filed Pursuant to: Federal Power Act 16 U.S.C. 791(a)-825(r).

h. Applicant Contact: Jason Lisai, General Operations, Green Mountain Power, 163 Acorn Lane, Colchester, Vermont 05446; telephone at (802) 655-8723; email at Jason.Lisai@greenmountainpower.com.

i. FERC Contact: Joshua Dub, Project Coordinator, Great Lakes Branch, Division of Hydropower Licensing; telephone at (202) 502-8138; email at joshua.dub@ferc.gov.

j. Deadline for filing motions to intervene, protests, comments, recommendations, preliminary terms and conditions, and preliminary fishway prescriptions: April 6, 2026, by 5:00 p.m. Eastern Time. Deadline for filing reply comments: May 20, 2026, by 5:00 p.m. Eastern Time.

The Commission strongly encourages electronic filing. Please file motions to intervene, protests, comments, recommendations, preliminary terms and conditions, and preliminary fishway prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Essex 19 Hydroelectric Project (P-2513-091).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing project includes a 585.9-foot-long, 46-foot-high dam with three spillways that each include a pneumatic crest gate. Two of the crest gates have a maximum crest elevation of 275 feet National Geodetic Vertical Datum of 1929 (NGVD 29) and the other crest gate has a maximum crest elevation of 274.9 feet NGVD 29. The dam also includes an intake structure with stoplog gates and two weir gates. The trashracks at the intake structure have 1-inch clear bar spacing for the upper 14.5 feet and 2-inch clear bar spacing for the lower 16.8 feet. The dam creates an impoundment that has a water surface area of approximately 268 acres at an elevation of 275 feet NGVD 29. From the impoundment, water flows through the intake structure to six penstocks that convey water to a powerhouse that includes four 1,800-kilowatt (kW) horizontal Francis turbine-generator units and a 850-kW double Francis turbine-generator unit. From the powerhouse, water flows to a tailrace that discharges into the Winooski River. Water also flows through a downstream fishway to a plunge pool located in an approximately 900-foot-long bypassed reach. The project generators are connected to the regional electric grid by two transformers and three transmission lines.

Project recreation facilities include: (1) Overlook Park with parking, picnic tables, trash cans, restrooms, and an access trail to the bypassed reach; (2) an impoundment access site with parking and an access trail to the impoundment; (3) a powerhouse access site with parking and an access trail from the powerhouse to the Winooski River; and (4) a portage trail extending from the powerhouse access site to the impoundment access site.

GMP proposes to: (1) continue to operate the project in a run-of-river mode and maintain the surface elevation of the impoundment at 274.7 feet NGVD 29; (2) continue to release a minimum flow of 50 cubic feet per second (cfs) or inflow, whichever is less, to the bypassed reach; (3) continue to release 100 cfs through the downstream fishway from April 15 through June 30, and from September 15 through December 15; (4) provide upstream fish passage around the project and the downstream Chace Mill Hydroelectric Project No. 2756 (Chace Mill) by sharing operation and maintenance costs of the trap and truck facility (estimated at $15,000 per year) located at the Chace Mill Dam with the Burlington Electric Department (licensee of the Chace Mill Project); (5) develop a water level management plan; (6) develop a recreation management plan; and (7) develop a historic properties management plan.

m. A copy of the application can be viewed on the Commission's website at https://www.ferc.gov using the “eLibrary” link. Enter the docket number excluding the last three digits in the docket number field to access the document (i.e., P-2513). For assistance, contact FERC Online Support.

You may also register online at https://ferconline.ferc.gov/FERCOnline.aspx to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

For public inquiries and assistance with making filings such as interventions, comments, or requests for rehearing, contact the Office of Public Participation at (202) 502-6595 or OPP@ferc.gov.

o. The applicant must file on or before 5:00 p.m. Eastern Time on April 6, 2026: (1) a copy of the water quality certification; (2) a copy of the request for certification, including proof of the date on which the certifying agency received the request; or (3) evidence of waiver of water quality certification.

p. Procedural Schedule: The application will be processed according to the following preliminary schedule. Revisions to the schedule will be made as appropriate.

Milestone | Target date
Filing of Motions to Intervene, Protests, Comments, Recommendations, Preliminary Terms and Conditions, and Preliminary Fishway Prescriptions | April 2026.
Filing of Reply Comments | May 2026.

q. Final amendments to the application must be filed with the Commission on or before 5:00 p.m. Eastern Time on March 6, 2026.

(Authority: 18 CFR 2.1)

Dated: February 4, 2026.
Debbie-Anne A. Reese,
Secretary.

[FR Doc. 2026-02518 Filed 2-6-26; 8:45 am]

BILLING CODE 6717-01-P